DEPARTMENT OF COMMERCE

International Trade Administration

[A-553-809]

Forged Stainless Steel Flanges From India: Extension of Time Limit for Preliminary Results of Antidumping Duty New Shipper Review

AGENCY: Import Administration, International Trade Administration, Department of Commerce.

EFFECTIVE DATE: March 28, 2005.

FOR FURTHER INFORMATION CONTACT: Fred Baker or Robert James, AD/CVD Operations, Office 7, Import Administration, International Trade Administration, U.S. Department of Commerce, 14th Street and Constitution Avenue, NW, Washington DC 20230; telephone: (202) 482-2924 or (202) 482-0649, respectively.

Background

On August 31, 2004, the Department of Commerce (the Department) received a timely request from Hilton Forge to conduct a new shipper review of the antidumping duty order on certain forged stainless steel flanges from India, sold in, or exported to the United States. On October 6, 2004, the Department published a notice of initiation of this new shipper review, covering the period of February 1, 2004 through July 31, 2004 (69 FR 59897). The preliminary results are currently due no later than March 29, 2005.

Extension of Time Limits for Preliminary Results

Section 751(a)(2)(B)(iv) of the Tariff Act of 1930, as amended (the Tariff Act), requires the Department to complete the preliminary results of a new shipper review within 180 days after the date on which the new shipper review was initiated. However, if it is not practicable to complete the review within these time periods because the review is extraordinarily complicated, section 751(a)(2)(B)(iv) of the Tariff Act allows the Department to extend the time limit for the preliminary results to a maximum of 300 days after the date of initiation of a new shipper review. We are extending the deadline for the preliminary results of this review an additional 120 days, as a result of the complicated issues in this review. In order to accurately complete our analysis, we need to gather additional information from Hilton concerning its U.S. and home market selling activities. Additionally, we need to gather information concerning the role, if any, that related parties may have played in Hilton's manufacture and sale of flanges. This makes it impracticable to complete the preliminary results of this review within the originally anticipated time limit. Accordingly, the Department is extending the time limit for completion of the preliminary results of this new shipper review until no later than July 27, 2005, which is 300 days after the date of initiation. We intend to issue the final results no later than 90 days after publication of the preliminary results notice.

Dated: March 21, 2005.
Barbara E. Tillman,
Acting Deputy Assistant Secretary for Import Administration.

[FR Doc. E5-1368 Filed 3-25-05; 8:45 am]

BILLING CODE 3510-DS-S